DEPARTMENT OF THE TREASURY

Internal Revenue Service

Open Meeting of Citizen Advocacy Panel, Midwest District

AGENCY: Internal Revenue Service (IRS), Treasury.

ACTION: Notice.

SUMMARY: A meeting of the Midwest Citizen Advocacy Panel will be held in West Des Moines, IA.

DATES: The meeting will be held Thursday, September 21, 2000, and Friday, September 22, 2000.

FOR FURTHER INFORMATION CONTACT: Sandra McQuin at 1-888-912-1227, or 414-297-1604.

SUPPLEMENTARY INFORMATION: Notice is hereby given pursuant to section 10(a)(2) of the Federal Advisory Committee Act, 5 U.S.C. App. (1988) that an open meeting of the Citizen Advocacy Panel (CAP) will be held Thursday, September 21, 2000, from 9:00 a.m. to 4:00 p.m. and Friday, September 22, 2000, from 8:00 a.m. to 12:00 p.m. at the Hampton Inn, 7060 Lake Drive, West Des Moines, IA 50266. The Citizen Advocacy Panel is soliciting public comment, ideas, and suggestions on improving customer service at the Internal Revenue Service. Written comments can be submitted to the panel by faxing to (414) 297-1623, or by mail to Citizen Advocacy Panel, Mail Stop 1006 MIL, 310 West Wisconsin Avenue, Milwaukee, WI 53203-2221.

The Agenda will include the following: Introduction of new members, reports by the CAP sub-groups, presentation of taxpayer issues by individual members, discussion of issues, and CAP office report.

Note: Last minute changes to the agenda are possible and could prevent effective advance notice.

Dated: August 17, 2000.
M. Cathy VanHorn,
Director, CAP, Communications & Liaison.

[FR Doc. 00-22213 Filed 8-29-00; 8:45 am]

BILLING CODE 4830-01-P